DEPARTMENT OF TRANSPORTATION

Federal Aviation Administration

14 CFR Part 71

[Airspace Docket No. 00-ANM-01]

Revision of Class E airspace, Englewood, CO

AGENCY: Federal Aviation Administration (FAA), DOT.

ACTION: Final rule; correction.

SUMMARY: This action corrects a final rule published on May 25, 2000 that inadvertently described the Class E airspace extension as E5. Additionally, in the legal description text, the word “radius” was inappropriately applied. This action corrects the final rule by reflecting the proper airspace designation and correction of text in the legal description.

EFFECTIVE DATE: 0901 UTC, August 10, 2000.

FOR FURTHER INFORMATION CONTACT: Brian Durham, ANM-520.7, Federal Aviation Administration, Docket No. 00-ANM-01, 1601 Lind Avenue S.W., Renton, Washington, 98055-4056; telephone number: (425) 227-2527.

SUPPLEMENTARY INFORMATION: On May 25, 2000, the FAA published a final rule that established a Class E airspace extension at the Centennial Airport, Englewood, CO (65 FR 33750). However, that action erroneously described the airspace as E5 instead of E4. Also, in the legal description text, the word “radius” was inappropriately applied. This action corrects the final rule by reflecting the proper airspace designation and description.

Correction to Final Rule

Accordingly, pursuant to the authority delegated to me, the Class E airspace description at Englewood, CO, as published in the Federal Register on May 25, 2000, (65 FR 33750), (Federal Register Document No. 00-13174) is corrected as follows:

§ 71.1 [Corrected]

1. On page 33751, in column 2, in the airspace description, header, correct the airspace description by removing E5 and adding E4. In the text, line 2, remove the word “radius”.

Issued in Seattle, Washington, on July 27, 2000.
Daniel A. Boyle,
Acting Manager, Air Traffic Division, Northwest Mountain Region.

[FR Doc. 00-20274 Filed 8-9-00; 8:45 am]

BILLING CODE 4910-13-M